FEDERAL COMMUNICATIONS COMMISSION

[WT Docket No. 12-354; DA 15-1398

Wireless Telecommunications Bureau Extends Period To File Comments and Reply Comments in Response to a Public Notice on an Appropriate Method for Determining the Protected Contours for Grandfathered 3650-3700 MHz Band Licensees

AGENCY: Federal Communications Commission.

ACTION: Notice.

SUMMARY: In this document, the Wireless Telecommunications Bureau (Bureau) extends the deadline for an October 23, 2015 public notice seeking comment on the appropriate methodology for determining the contours for protecting existing 3650-3700 MHz wireless broadband licensees from Citizens Broadband Radio Service users during a fixed transition period (3650-3700 MHz Band Protection Contours Public Notice). The deadline for comments is extended from December 10, 2015 to December 28, 2015 and the deadline for reply comments is extended from December 28, 2015 to January 12, 2016.

DATES: Comments are due on or before December 28, 2015. Reply comments are due on or before January 12, 2016.

ADDRESSES: All filings in response to the notice must refer to WT Docket No. 12-354. The Wireless Telecommunications Bureau strongly encourages parties to file comments electronically. Comments may be submitted electronically by the following methods:

• Federal Communications Commission's Web site: http://www.fcc.gov/cgb/ecfs/. Follow the instructions for submitting comments.

• By email. To obtain instructions for filing by email, filers should send an email to ecfs@fcc.gov, and include the following words in the body of the message, “get form.” A sample form and directions will be sent in response.

• Paper Filers: Parties who choose to file by paper must file an original and one copy of each filing. Filings can be sent by hand or messenger delivery, by commercial overnight courier, or by first-class or overnight U.S. Postal Service mail. All filings must be addressed to the Commission's Secretary, Attn: WTB/MD, Office of the Secretary, Federal Communications Commission. All hand-delivered or messenger-delivered paper filings for the Commission's Secretary must be delivered to FCC Headquarters at 445 12th Street SW., Room TW-A325, Washington, DC 20554. All hand deliveries must be held together with rubber bands or fasteners. All envelopes must be disposed of before entering the building. Commercial overnight mail (other than U.S. Postal Service Express Mail and Priority Mail) must be sent to 9300 East Hampton Drive, Capitol Heights, MD 20743. U.S. Postal Service first-class mail, Express Mail, and Priority Mail should be addressed to 445 12th Street SW., Washington, DC 20554.

People with Disabilities: Contact the FCC to request reasonable accommodations (accessible format documents, sign language interpreters, CART, etc.) by email: fcc504@fcc.gov or phone: (202) 418-0530 or TTY: (202) 418-0432.

FOR FURTHER INFORMATION CONTACT: Paul Powell, Mobility Division, Wireless Telecommunications Bureau at (202) 418-1613 or via email at Paul.Powell@fcc.gov.

SUPPLEMENTARY INFORMATION: This is a summary of public notice (DA 15-1398) released on December 9, 2015. The complete text of the public notice is available for viewing via the Commission's ECFS Web site by entering the docket number, WT Docket No. 12-354. The complete text of the public notice is also available for public inspection and copying from 8:00 a.m. to 4:30 p.m. Eastern Time (ET) Monday through Thursday or from 8:00 a.m. to 11:30 a.m. ET on Fridays in the FCC Reference Information Center, 445 12th Street SW., Room CY-B402, Washington, DC 20554, telephone 202-488-5300, fax 202-488-5563, or you may contact BCPI at its Web site: http://www.BCPIWEB.com. When ordering documents from BCPI, please provide the appropriate FCC document number, for example, DA 15-1398.

In the notice, the Bureau extends the comment deadline for a public notice seeking comment on the appropriate methodology for determining the protected interference contours for existing 3650-3700 MHz wireless broadband licensees during a fixed transition period. Interested parties will now have until December 28, 2015 to file comments and until January 12, 2016 to file reply comments.

On December 7, 2015, the Wireless Innovation Forum (WinnForum) filed a request to extend the comment and reply comment deadline for the 3650-3700 MHz Band Protection Contours Public Notice from December 10, 2015 until December 28, 2015 for comments and from December 28, 2015 to January 12, 2016 for reply comments. WinnForum states that the forum's Spectrum Sharing Committee established a Task Group, comprised of both Part 90 incumbent licensees and potential Part 96 entities, to address the questions raised in the 3650-3700 MHz Band Protection Contours Public Notice. WinnForum explains that the Task Group has reached general agreement on specific aspects for Part 90 protections but they will not be able to ballot comments prior to the comment filing deadline.

As set forth in section 1.46(a) of the Commission's rules, “it is the policy of the Commission that extensions of time shall not be routinely granted.” However, in this case, we believe it is in the public interest to grant an extension to promote industry consensus and allow all interested to include their comments on the record at the comment deadline, as the WinnForum represents future Part 96 users and representatives of existing 3650-3700 MHz licensees. This will ensure that Commission has a complete record and all parties can fully address the complicated issues raised in the 3650-3700 MHz Band Protection Contours Public Notice. A limited extension will not negatively affect existing operators or delay deployment of new systems in the 3650-3700 MHz band.

This proceeding has been designated as a “permit-but-disclose” proceeding in accordance with the Commission's ex parte rules. Persons making ex parte presentations must file a copy of any written presentation or a memorandum summarizing any oral presentation within two business days after the presentation (unless a different deadline applicable to the Sunshine period applies). Persons making oral ex parte presentations are reminded that memoranda summarizing the presentation must (1) list all persons attending or otherwise participating in the meeting at which the ex parte presentation was made, and (2) summarize all data presented and arguments made during the presentation. If the presentation consisted in whole or in part of the presentation of data or arguments already reflected in the presenter's written comments, memoranda or other filings in the proceeding, the presenter may provide citations to that data or arguments in his or her prior comments, memoranda, or other filings (specifying the relevant page and/or paragraph numbers where the data or arguments can be found) in lieu of summarizing them in the memorandum. Documents shown or given to Commission staff during ex parte meetings are deemed to be written ex parte presentations and must be filed consistent with § 1.1206(b) of the Commission's rules. In proceedings governed by § 1.49(f) or for which the Commission has made available a method of electronic filing, written ex parte presentations and memoranda summarizing oral ex parte presentations and all attachments to those documents must be filed through the electronic comment filing system available for that proceeding, and must be filed in their native format (e.g., .doc, .xml, .ppt, searchable .pdf). Participants in this proceeding should familiarize themselves with the Commission's ex parte rules.

Federal Communications Commission.
Katherine M. Harris,
Deputy Chief, Mobility Division, Wireless Telecommunications Bureau.

[FR Doc. 2015-32638 Filed 12-24-15; 8:45 am]

BILLING CODE 6712-01-P